NUCLEAR REGULATORY COMMISSION

[Docket No. 50-412; License No. NPF-73; NRC-2016-0277]

In the Matter of FirstEnergy Nuclear Operating Company; Beaver Valley Power Station, Unit 2

AGENCY: Nuclear Regulatory Commission.

ACTION: Direct transfer of license; order.

SUMMARY: The U.S. Nuclear Regulatory Commission (NRC) is issuing an order approving the direct transfer of the facility operating license for Beaver Valley Power Station, Unit 2 (BVPS-2), to FirstEnergy Nuclear Generation, LLC (FENGen). The BVPS-2 is located in Beaver County, PA.

DATES: The order was issued on April 14, 2017.

ADDRESSES: Please refer to Docket ID NRC-2016-0277 when contacting the NRC about the availability of information regarding this document. You may obtain publicly-available information related to this document using any of the following methods:

• Federal Rulemaking Web Site: Go to http://www.regulations.gov and search for Docket ID NRC-2016-0277. Address questions about NRC dockets to Carol Gallagher; telephone: 301-415-3463; e-mail: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The documents listed in the attached order are available in ADAMS as follows: Application dated June 24, 2016 (ADAMS Accession No. ML16182A155), supplemental letters dated September 13, 2016; December 15, 2016; and March 16, 2017 (ADAMS Accession Nos. ML16257A235, ML16350A077, and ML17075A210, respectively), and Safety Evaluation dated April 14, 2017 (ADAMS Accession No. ML17081A433 (nonproprietary)).

• NRC's PDR: You may examine and purchase copies of public documents at the NRC's PDR, Room O1-F21, One White Flint North, 11555 Rockville Pike, Rockville, MD 20852.

FOR FURTHER INFORMATION CONTACT: Taylor A. Lamb, Office of Nuclear Reactor Regulation, U.S. Nuclear Regulatory Commission, Washington, DC 20555-0001; telephone: 301-415-7128; email: Taylor.Lamb@nrc.gov.

SUPPLEMENTARY INFORMATION: The text of the order is attached.

Dated at Rockville, MD, this 14th day of April 2017.
For the Nuclear Regulatory Commission.
James G. Danna,
Chief, Plant Licensing Branch I, Division of Operator Reactor Licensing, Office of Nuclear Reactor Regulation.

Attachment—Order Approving Direct Transfer of License and Approving Conforming Amendment

UNITED STATES OF AMERICA

NUCLEAR REGULATORY COMMISSION

[Docket No. 50-412; License No. NPF-73; NRC-2016-0277]

In the Matter of FirstEnergy Nuclear Operating Company; Beaver Valley Power Station, Unit 2

ORDER APPROVING DIRECT TRANSFER OF LICENSE AND APPROVING CONFORMING AMENDMENT

I.

FirstEnergy Nuclear Operating Company (FENOC or the applicant), acting as an agent for and on behalf of FirstEnergy Nuclear Generation, LLC (FENGen), the Toledo Edison Company (TE), and the Ohio Edison Company (OE), requested that the U.S. Nuclear Regulatory Commission (NRC or the Commission) consent to the direct transfer of TE's 18.26 percent leased interest in Beaver Valley Power Station, Unit 2 (BVPS-2) to FENGen, and OE's 21.66 percent leased interest in BVPS-2 to FENGen. TE and OE, with respect to their leased interests, and FENGen, are co-holders of Renewed Facility Operating License No. NPF-73. The BVPS-2 facility is located in Beaver County, PA.

II.

By application dated June 24, 2016, as supplemented by letters dated September 13, 2016; December 15, 2016; and March 16, 2017, the applicant requested on behalf of itself, FENGen, TE, and OE, pursuant to Section 50.80 of Title 10 of the Code of Federal Regulations (10 CFR 50.80), that the NRC consent to the direct transfer of TE's 18.26 percent leased interest in BVPS-2 and OE's 21.66 percent interest in BVPS-2 (combined 39.92 percent leased interest in BVPS-2), to FENGen. Upon execution of this proposed transfer, FENGen would own 100 percent of BVPS-2, and FENOC would continue to operate the facility.

FENOC requested that the NRC approve the direct transfer of the leased interest in the facility operating license. The NRC published a Federal Register notice titled, “Beaver Valley Power Station, Unit 2, Consideration of Approval of Transfer of License and Conforming Amendment [Docket No. 50-412; NRC-2016-0277],” on January 23, 2017 (82 FR 7880). The NRC received no comments or hearing requests in response to this notice.

Under 10 CFR 50.80, no license, or any right thereunder, shall be transferred, directly or indirectly, through transfer of control of the license, unless the NRC shall give its consent in writing. Upon review of the information in the application, and other information before the Commission, the NRC staff has determined that FENGen is qualified to hold the license to the extent proposed to permit the transfer of Toledo Edison Company's and Ohio Edison Company's combined 39.92 percent leased interest in BVPS-2, and that the transfers of the license are otherwise consistent with the applicable provisions of law, regulations, and orders issued by the NRC, pursuant thereto, subject to the conditions set forth below. The NRC staff has further found that:

• The application for the proposed license amendment complies with the standards and requirements of the Atomic Energy Act of 1954 (the Act), as amended, and the Commission's rules and regulations set forth in 10 CFR Chapter I.

• The facility will operate in conformity with the application, the provisions of the Act, and the rules and regulations of the Commission.

• There is reasonable assurance that the activities authorized by the proposed license amendment can be conducted without endangering the health and safety of the public and that such activities will be conducted in compliance with the Commission's regulations.

• The issuance of the proposed license amendment will not be inimical to the common defense and security or to the health and safety of the public.

• The issuance of the proposed amendment will be in accordance with 10 CFR part 51, and all applicable requirements have been satisfied.

The findings set forth above are supported by a safety evaluation dated April 14, 2017.

III.

Accordingly, pursuant to §§ 161b, 161i, 161o, and 184 of the Act; 42 USC §§ 2201(b), 2201(i), 2201(o), and 2234; and 10 CFR 50.80, IT IS HEREBY ORDERED that the NRC approves the application for the proposed direct license transfer, subject to the following condition:

FENGen shall provide satisfactory documentary evidence to the Director of the Office of Nuclear Reactor Regulation that, as of the date of the license transfer, the licensees reflected in the amended license obtained the appropriate amount of insurance required of a licensee under 10 CFR part 140 and 10 CFR 50.54(w).

It is further ordered that consistent with 10 CFR 2.1315(b), the NRC approves the license amendment that makes a change, as indicated in the Conforming License Amendment to License No. NPF-73. The NRC shall issue and make effective the amendment at the time the proposed direct transfer action is completed.

It is further ordered that after receipt of all required regulatory approvals of the proposed direct transfer action, the applicant shall inform the Director of the Office of Nuclear Reactor Regulation in writing of such receipt no later than 5 business days prior to the date of the closing of the direct transfer. Should the proposed direct transfer not be completed by April 14, 2018, this Order shall become null and void, provided, however, upon written application and good cause shown, the NRC may extend such date by order.

This Order is effective upon issuance.

For further details with respect to this Order, see the initial application dated June 24, 2016 (ADAMS Accession No. ML16182A155), as supplemented by letters dated September 13, 2016; December 15, 2016; and March 16, 2017 (ADAMS Accession Nos. ML16257A235, ML16350A077, and ML17075A210, respectively), and the safety evaluation dated April 14, 2017 (ADAMS Accession No. ML17081A433 (nonproprietary)), which are available for public inspection at the Commission's Public Document Room (PDR), located at One White Flint North, Public File Area 01 F21, 11555 Rockville Pike (first floor), Rockville, MD. Publicly available documents created or received at the NRC are accessible electronically through ADAMS in the NRC Library at http://www.nrc.gov/reading-rm/adams.html. Persons who do not have access to ADAMS or who encounter problems in accessing the documents located in ADAMS, should contact the NRC PDR reference staff by telephone at 1-800-397-4209 or 301-415-4737, or by e-mail to pdr.resource@nrc.gov.

Dated at Rockville, Maryland, this 14th day of April 2017.

For the Nuclear Regulatory Commission.

William M. Dean,

Director, Office of Nuclear Reactor Regulation.

[FR Doc. 2017-08114 Filed 4-20-17; 8:45 am]

BILLING CODE 7590-01-P